DEPARTMENT OF HEALTH AND HUMAN SERVICES

National Institutes of Health

Proposed Collection; Comment Request; The Agricultural Health Study: A Prospective Cohort Study of Cancer and Other Diseases Among Men and Women in Agriculture

Summary: In compliance with the requirement of Section 3506(c0(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: The Agricultural Health Study—A Prospective Cohort Study of Cancer and Other Diseases Among Men and Women in Agriculture: Phase III. Type of Information Collection Request: New. Need and Use of Information Collection: The purpose of this information collection is to update occupational and environmental exposure information as well as medical history information for subjects enrolled in the in the Agriculture Health Study. The primary objectives of the study are to determine the health effects resulting from occupational and environmental exposures in the agricultural environmental. The findings will provide valuable information concerning the potential link between agricultural exposures and cancer and other chronic diseases among agricultural Health Study cohort members, and this information may be generalized to the entire agricultural community. Frequency of Response: Single time reporting. Affected Public: Individuals or households; farms; Type of Respondents: Licensed pesticide applicators and their spouses. The annual reporting burden is as follows: Estimated Number of Respondents: 74,714; Estimated Number of Responses per Respondent: 1; Average Burden Hours Per Response: 0.6179; and Estimated Total Annual Burden Hours Requested: 46,166. The annualized cost to respondents is estimated at: $461,660.00. There are no Capital Costs to report. There are no Operating or Maintenance Costs to report.

Type of respondents | Estimated Number of respondents | Estimated Number of responses per respondent | Average burden hours per response | Estimated total annual burden hours requested
Private Applicators | 40,821 | 1.0 | 0.6179 | 25,223
Spouses | 30,992 | 1.0 | 0.6179 | 19,149
Commercial Applicators | 2,901 | 1.0 | 0.6179 | 1,793
Total | 74,714 | 1.0 | 0.6179 | 46,165

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact Michael C. R. Alavanja, DrPH, Occupational and Environmental Epidemiology Branch, Epidemiology and Biostatistics Program, Division of Cancer Epidemiology and Genetics, National Cancer Institute, 6120 Executive Boulevard, Room 8000, Bethesda, MD 20892k, or call (301) 435-4720, or e-mail your request, including your address to: alavanjm@mail.nih.gov.

Comments Due Date: Comments regarding this information collection are best assured of having their full effect if received within 60-day of the date of this publication.

Dated: February 7, 2005.
Rachelle Ragland-Green,
NCI Project Clearance Liaison, National Institutes of Health.

[FR Doc. 05-2773 Filed 2-11-05; 8:45 am]

BILLING CODE 4104-01-M